DEPARTMENT OF HOUSING AND URBAN DEVELOPMENT

[Docket No. FR-5330-D-01]

Delegation of Authority for Homelessness Prevention and Rapid Re-Housing Program

AGENCY: Office of the Secretary, HUD.

ACTION: Notice of delegation of authority.

SUMMARY: In this notice, the Secretary delegates to the Assistant Secretary for Community Planning and Development and the General Deputy Assistant Secretary for Community Planning and Development the authority necessary to implement the Homelessness Prevention and Rapid Re-Housing Program (HPRP) which was established under the Homelessness Prevention Fund heading of Division A, Title XII of the American Recovery and Reinvestment Act of 2009.

DATES: Effective Date: June 5, 2009.

FOR FURTHER INFORMATION CONTACT: Ann Oliva, Director, Office of Special Needs Assistance Programs, Office of Community Planning and Development, Department of Housing and Urban Development, 451 7th Street, SW., Washington, DC 20410, (202) 708-4300. (This is not a toll-free number.) For hearing/speech-impaired individual, this number may be accessed via TTY by calling the Federal Information Relay Service at 1-800-877-8399.

SUPPLEMENTARY INFORMATION: This notice states the scope of authority given to the Assistant Secretary for Community Planning and Development and the General Deputy Assistant Secretary for Community Planning and Development for HPRP. In this document, the Secretary delegates authority to implement HPRP, as specified below, and in accordance with applicable law, rule and departmental policy, to the Assistant Secretary for Community Planning and Development and the General Deputy Assistant Secretary for Community Planning and Development. Accordingly, the Secretary delegates authority as follows:

Section A. Authority Delegated

The Assistant Secretary for Community Planning and Development and the General Deputy Assistant Secretary for Community Planning and Development are delegated all power and authority of the Secretary to implement HPRP.

Section B. Authority Excepted

The authority delegated under Section A to the Assistant Secretary for Community Planning and Development and the General Deputy Assistant Secretary for Community Planning and Development does not include the power to sue and be sued. Furthermore, the authority delegated under Section A to the General Deputy Assistant Secretary for Community Planning and Development does not include the authority to waive rules and regulations.

Section C. Authority to Redelegate

The Assistant Secretary for Community Planning and Development may redelegate to employees of the Department any of the power and authority delegated under Section A, and not excepted under Section B of this delegation. However, the Assistant Secretary for Community Planning and Development is not authorized to redelegate the authority to issue or waive rules and regulations.

Authority: Section 7(d), Department of Housing and Urban Development Act, 42 U.S.C. 3535(d).

Dated: June 5, 2009.
Shaun Donovan,
Secretary of Housing and Urban Development.

[FR Doc. E9-13765 Filed 6-11-09; 8:45 am]

BILLING CODE 4210-67-P